DEPARTMENT OF COMMERCE

National Oceanic and Atmospheric Administration

RIN: 0648-XE23

Pacific Fishery Management Council; Public Meeting

AGENCY: National Marine Fisheries Service (NMFS), National Oceanic and Atmospheric Administration (NOAA), Commerce.

ACTION: Notice of a public meeting.

SUMMARY: The Pacific Fishery Management Council (Council) will hold a Groundfish Stock Assessment Review Workshop, which is open to the public.

DATES: The Groundfish Stock Assessment Review Workshop will be held Wednesday, December 19, 2007, from 8:30 a.m. until business for the day is completed.

ADDRESSES: The Groundfish Stock Assessment Review Workshop will be held at the Sheraton Portland Airport Hotel, Mt. Adams Room, 8235 NE Airport Way, Portland, OR 97220; telephone: (503) 281-2500.

Council address: Pacific Fishery Management Council, 7700 NE Ambassador Place, Suite 101, Portland, OR 97220-1384.

FOR FURTHER INFORMATION CONTACT: Mr. John DeVore, Groundfish Management Coordinator; telephone: (503) 820-2280.

SUPPLEMENTARY INFORMATION: The purpose of the Groundfish Stock Assessment Review Workshop is for participants in the Council's 2007 stock assessment process to consider the procedures used in 2007 to assess and update groundfish stock abundance and develop recommendations for improving the process for future assessments. No management actions will be decided in this workshop. Any recommendations developed at the workshop will be submitted for consideration by the Council at its March 2008 meeting in Sacramento, CA.

Although non-emergency issues not identified in the workshop agenda may come before the workshop participants for discussion, those issues may not be the subject of formal action during this workshop. Formal action at the workshop will be restricted to those issues specifically listed in this notice and any issues arising after publication of this notice that require emergency action under Section 305(c) of the Magnuson-Stevens Fishery Conservation and Management Act, provided the public has been notified of the workshop participants' intent to take final action to address the emergency.

Special Accommodations

This workshop is physically accessible to people with disabilities. Requests for sign language interpretation or other auxiliary aids should be directed to Ms. Carolyn Porter at (503) 820-2280 at least 5 days prior to the workshop date.

Dated: November 28, 2007.
Tracey L. Thompson,
Acting Director, Office of Sustainable Fisheries, National Marine Fisheries Service.

[FR Doc. E7-23314 Filed11-30-07; 8:45 am]

BILLING CODE 3510-22-S